DEPARTMENT OF COMMERCE

Patent and Trademark Office

Agency Information Collection Activities; Submission to the Office of Management and Budget (OMB) for Review and Approval; Comment Request; Generic Clearance for the Collection of Qualitative Feedback on Agency Service Delivery

The United States Patent and Trademark Office (USPTO) will submit the following information collection request to the Office of Management and Budget (OMB) for review and clearance in accordance with the Paperwork Reduction Act of 1995, on or after the date of publication of this notice. The USPTO invites comments on this information collection renewal, which helps the USPTO assess the impact of its information collection requirements and minimize the public's reporting burden. Public comments were previously requested via the Federal Register on June 17, 2024 during a 60-day comment period (89 FR 51312). This notice allows for an additional 30 days for public comment.

Agency: United States Patent and Trademark Office, Department of Commerce.

Title: Generic Clearance for the Collection of Qualitative Feedback on Agency Service Delivery.

OMB Control Number: 0651-0080.

Needs and Uses: Executive Order 12862 (Setting Customer Service Standards) directs Federal agencies to provide services to the public that matches or exceeds the best services available in the private sector.¹ In order to work continuously to ensure that its programs are effective and meet its customers' needs, the United States Patent and Trademark Office (USPTO) uses this generic clearance to collect qualitative feedback on its service delivery. Qualitative feedback refers to information that provides useful insights on perceptions and opinions, but is not in the form of statistical surveys which yield quantitative results that can be generalized to the population of study.

¹ https://www.archives.gov/files/federal-register/executive-orders/pdf/12862.pdf.

The USPTO collects, analyzes, and interprets the information gathered to identify strengths and weaknesses of current services. Based on feedback received, the USPTO will identify operational changes needed to improve programs and services. The solicitation of such feedback will target areas such as: timeliness, appropriateness, accuracy of information, courtesy, efficiency of service delivery, and resolution of issues with service delivery.

Collecting this feedback provides the USPTO with information on customer satisfaction. This feedback provides for ongoing, collaborative, and actionable communication between the USPTO and its customers and stakeholders. Additionally, it allows the USPTO to gather feedback in an efficient and timely manner. The information collected from external customers and stakeholders ensures that users have an opportunity to convey their experience with USPTO programs. This information collection also provides insights into customer or stakeholder perceptions, experiences, and expectations, which allows the USPTO to focus its attention on areas where communication, training, or changes in operations may be necessary.

This information collection covers a variety of methods used by USPTO to obtain qualitative feedback from the public. The estimated number of annual responses and burden hours being requested are based on the number of information collections the USPTO expects to conduct over the period of this clearance. Each specific request for clearance under this generic information collection includes estimates for the following information: respondent types, number of respondents, number of responses, time per response, burden hours, and associated costs.

Forms: None.

Type of Review: Extension and revision of a currently approved information collection.

Affected Public: Individuals and households.

Respondent's Obligation: Voluntary.

Frequency: On occasion.

Estimated Number of Annual Respondents: 150,000 respondents.

Estimated Number of Annual Responses: 150,000 responses.

Estimated Time per Response: The USPTO estimates that the responses in this information collection will take the public approximately 10 minutes (0.17 hours) to complete. This includes the time to gather the necessary information, create the document, and submit the completed item to the USPTO.

Estimated Total Annual Respondent Burden Hours: 25,500 hours.

Estimated Total Annual Respondent Non-hourly Cost Burden: $0.

This information collection request may be viewed at www.reginfo.gov. Follow the instructions to view Department of Commerce, USPTO information collections currently under review by OMB.

Written comments and recommendations for this information collection should be submitted within 30 days of the publication of this notice on the following website, www.reginfo.gov/public/do/PRAMain. Find this particular information collection by selecting “Currently under 30-day Review-Open for Public Comments” or by using the search function and entering either the title of the information collection or the OMB Control Number, 0651-0080.

Further information can be obtained by:

• Email: InformationCollection@uspto.gov. Include “0651-0080 information request” in the subject line of the message.

• Mail: Justin Isaac, Office of the Chief Administrative Officer, United States Patent and Trademark Office, P.O. Box 1450, Alexandria, VA 22313-1450.

Justin Isaac,
Information Collections Officer, Office of the Chief Administrative Officer, United States Patent and Trademark Office.

[FR Doc. 2024-21143 Filed 9-17-24; 8:45 am]

BILLING CODE 3510-16-P